DEPARTMENT OF EDUCATION

Applications for New Awards; Gaining Early Awareness and Readiness for Undergraduate Programs

AGENCY: Office of Postsecondary Education, Department of Education.

ACTION: Notice.

Overview Information

Gaining Early Awareness and Readiness for Undergraduate Programs (GEAR UP); Notice Inviting Applications for New Awards for Fiscal Year (FY) 2011

Catalog of Federal Domestic Assistance (CFDA) Number: 84.334S (State grants).

DATES: Applications Available: June 14, 2011.

Deadline for Transmittal of Applications: July 14, 2011.

Deadline for Intergovernmental Review: September 12, 2011.

Full Text of Announcement

I. Funding Opportunity Description

Purpose of Program: The GEAR UP Program is a discretionary grant program that provides financial support for academic and related support services that eligible low-income students, including students with disabilities, need to enable them to obtain a secondary school diploma and to prepare for and succeed in postsecondary education.

Priorities: This notice contains four competitive preference priorities and one invitational priority.

Background: The President has set a clear goal for our education system: By 2020, the United States will once again lead the world in college completion. To achieve this goal, the Department has consistently encouraged four key reforms to improve elementary and secondary education—in particular the Department is seeking to: Improve the effectiveness of teachers and school leaders and promote equity in the distribution of effective teachers and school leaders; strengthen the use of data to improve teaching and learning; provide high-quality instruction based on rigorous college- and career-ready standards and measure students' mastery of standards using high-quality assessments aligned with those standards; and turn around the lowest-performing schools.

The Department views the GEAR UP program as a critical component in the effort to improve the quality of secondary schools so that more students are well prepared for college and careers. In order to more strategically align GEAR UP with these overarching reform strategies for school improvement, the Department is announcing four competitive preference priorities for this competition. The Department also proposes one invitational priority for this competition.

We are using three priorities from the Department's notice of final supplemental priorities and definitions for discretionary grant programs, published in the Federal Register on December 15, 2010 (75 FR 78486).

The Department is using Competitive Preference Priority 2—Turning Around Persistently Lowest-Achieving Schools because an essential element in strengthening our education system is dramatic improvement of student performance in each State's persistently lowest-achieving schools. These schools often require intensive interventions to improve the school culture and climate, strengthen the school staff and instructional program, increase student attendance and enrollment in advanced courses, provide more time for learning, and ensure that social services and community support are available for students in order to raise student achievement, graduation rates, and college enrollment rates. In addition, students in these schools can benefit from participating in programs, such as GEAR UP, that offer additional services designed to increase student success. The Department is interested in seeing strong plans to support improvements in student achievement and outcomes within these schools.

The Department is using Competitive Preference Priority 3—Enabling More Data-Based Decisionmaking because the Department believes that the effective use of data for informed decisionmaking is essential to the continuous improvement of educational results. Specifically, this priority is for projects that are designed to provide educators, as well as families and other key stakeholders, with high-quality data and the capacity and training to use those data. The data may be used to respond to the learning and academic needs of students, increase student achievement (as defined in this notice), improve educator effectiveness, inform professional development practices and approaches, understand the culture and climate of their schools and institutions, and make informed decisions that increase overall program effectiveness. We believe that inclusion of this competitive preference priority is important because accurate, timely, relevant, and appropriate data are key to knowing what is working for students and what is not. Data can tell us which students are on track to college- and career-readiness and which students need additional support, which instructional strategies are working, which schools or institutions are successfully improving student learning and performance, and which teachers or faculty excel in increasing student achievement so that they can, for example, be given the opportunity to coach others or to lead communities of professional practice.

Finally, we are using Competitive Preference Priority 4—Implementing Internationally Benchmarked, College- and Career-Ready Elementary and Secondary Academic Standards because the Department believes that the adoption of common, internationally benchmarked, college- and career-ready academic standards for elementary and secondary school students is key to ensuring that high schools graduate students with the skills and knowledge that prepare them to enroll in postsecondary education without the need for remediation and to successfully earn a postsecondary credential. Holding students to college- and career-ready academic standards, and providing them with the instructional materials and support they need to meet those standards, is particularly important for the low-income students served by GEAR UP who otherwise would be less likely to be ready for and successful in postsecondary education. Therefore, the Department is giving priority to States that have adopted such standards and that are proposing projects that will support their implementation by, for example, providing assistance to local educational agencies in transitioning to these new standards and including assistance in developing and implementing high-quality instructional materials, assessments aligned with the standards, teacher and principal preparation and professional development programs, and other strategies that translate the standards into classroom practice. The Department would like to see GEAR UP State applicants develop plans that would help students in schools served by their GEAR UP projects in meeting these new standards.

Competitive Preference Priorities. The first competitive preference priority is from section 404A(b)(3) of the Higher Education Act of 1965, as amended (20 U.S.C. 1070a-21) and the GEAR UP program regulations in 34 CFR 694.19. The remaining three competitive preference priorities are from the notice of final supplemental priorities and definitions for discretionary grant programs, published in the Federal Register on December 15, 2010 (75 FR 78486). For FY 2011 and any subsequent year in which we make awards from the list of unfunded applicants from this competition, these priorities are competitive preference priorities. Under 34 CFR 75.105(c)(2)(i) we award up to an additional 12 points to an application, depending on how well the application meets each priority.

These priorities are:

Competitive Preference Priority 1—Successful Completion of Prior GEAR UP Projects (Up to 2 Additional Points)

Consistent with section 404A(b)(3) of the Higher Education Act, as amended by the Higher Education Opportunity Act (Pub. L. 110-315)(HEA), and 34 CFR § 694.19, the Secretary gives priority to an eligible applicant for a State GEAR UP grant that has both: (a) Carried out a successful State GEAR UP grant prior to August 14, 2008, determined on the basis of data (including outcome data) submitted by the applicant as part of its annual and final performance reports, and the applicant's history of compliance with applicable statutory and regulatory requirements; and (b) a prior, demonstrated commitment to early intervention leading to college access through collaboration and replication of successful strategies.

Competitive Preference Priority 2—Turning Around Persistently Lowest-Achieving Schools (Up to 3 Additional Points)

Projects that are designed to address one or more of the following priority areas:

(a) Improving student achievement (as defined in this notice) in persistently lowest-achieving schools (as defined in this notice).

(b) Increasing graduation rates (as defined in this notice) and college enrollment rates for students in persistently lowest-achieving schools (as defined in this notice).

Note: States proposing to work in persistently lowest- achieving schools under this priority should consider providing a list of qualifying schools along with descriptions of the strategies that the State proposes to implement within these specific schools in order to improve one or more of the following: student achievement (as defined in this notice), graduation rates (as defined in this notice), or college enrollment rates.

Competitive Preference Priority 3—Enabling More Data-Based Decision-Making (Up to 3 Additional Points)

Projects that are designed to collect (or obtain), analyze, and use high-quality and timely data, including data on program participant outcomes, in accordance with privacy requirements (as defined in this notice), in one or more of the following priority areas:

(a) Improving instructional practices, policies, and student outcomes in elementary or secondary schools.

(b) Improving postsecondary student outcomes relating to enrollment, persistence, and completion and leading to career success.

(c) Providing reliable and comprehensive information on the implementation of Department of Education programs, and participant outcomes in these programs, by using data from State longitudinal data systems or by obtaining data from reliable third-party sources.

Note: Applicants proposing to use data to improve decision-making might want to consider demonstrating their ability to access the State's longitudinal data system for reporting postsecondary student outcomes and student outcomes in elementary and secondary schools. Examples of other data-based activities could include using course-taking trend data to structure interventions tailored to keep students ‘on-track’ to graduate from high school and prepared for postsecondary education or using such data to develop early warning indicator systems designed to prevent students from dropping out.

Competitive Preference Priority 4—Implementing Internationally Benchmarked, College-and Career-Ready Elementary and Secondary Academic Standards (Up to 4 Additional Points)

Projects that are designed to support the implementation of internationally benchmarked, college- and career-ready academic standards held in common by multiple States and to improve instruction and learning, including projects in one or more of the following priority areas:

(a) The development or implementation of curriculum or instructional materials aligned with those standards.

(b) The development or implementation of professional development or preparation programs aligned with those standards.

(c) Strategies that translate the standards into classroom practice.

Note: We interpret the GEAR UP statute and applicable cost principles contained in U.S. Office of Management and Budget Circular A-87 as not authorizing a State grantee to use GEAR UP program funds to either develop the assessments or implement other activities in this priority unless doing so focuses only on the eligible students in local educational agencies (LEAs) participating in the State's GEAR UP project. However, a State grantee may use Federal funds to help participating LEAs implement any part of the State's or LEA's strategies for meeting this competitive preference priority. Similarly, a State also may use GEAR UP program funds to assist LEAs that have received funding under the Investing in Innovation (i3) program to implement strategies and activities that align with State strategies for preparing eligible GEAR UP students to attend and succeed in postsecondary education. These strategies may include the development of graduation and career plans.

Invitational Priority: For FY 2011 and any subsequent year in which we make awards from the list of unfunded applicants from this competition, this priority is an invitational priority. Under 34 CFR 75.105(c)(1), we do not give an application that meets this invitational priority a competitive or absolute preference over other applications.

This priority is:

Invitational Priority—Financial Access and College Savings Accounts

Background

Research indicates that students with savings accounts may be up to seven times more likely to attend college, even when controlling for other factors (Elliot, Jung, and Friedline, 2010: http://csd.wustl.edu/Publications/Documents/WP10-01.pdf). Yet 25 percent of U.S. households (and 50 percent of Black and Hispanic households) are unbanked or underbanked, meaning that they either do not have a Federally-insured deposit account, or that they have an account but still rely on costly alternative financial services. Young adults are disproportionately unbanked and underbanked (http://www.economicinclusion.gov/). At the same time, a lack of financial literacy—such as overestimating the price of college, not applying for Federal student aid, and taking private education loans before exhausting Federal loans—is a major roadblock on the path to college access and success for too many students and families (http://www2.ed.gov/legislation/FedRegister/announcements/2010-3/072610c.html). Partially as a result of these findings, the Secretary of Education and the Chairmen of the Federal Deposit Insurance Corporation and the National Credit Union Administration announced in November 2010 a new interagency agreement to increase partnerships among schools, financial institutions, and other stakeholders to help students gain access to deposit accounts, learn about money, and save for college. The Department's press statement on this partnership can be found at: http://www.ed.gov/news/press-releases/fdic-and-ncua-chairs-join-education-secretary-announce-partnership-promote-finan and the Secretary's recently recorded video encouraging participation at: http://www.youtube.com/watch?v=uxOoXeOkh_w.

Section 404D(b) of the HEA expressly authorizes GEAR UP program grantees to design projects that promote participating students' secondary school completion and enrollment in postsecondary education by means that include promotion of financial literacy and economic literacy education or counseling. Accordingly, and in keeping with the goals of the new interagency agreement, the Secretary specifically invites applications that address the following invitational priority.

Invitational Priority

The Secretary invites applications that propose, as part of their strategy for ensuring secondary school completion and postsecondary education enrollment of participating students, financial and economic literacy activities that include:

• Creation or enhancement of partnerships with financial institutions and/or other stakeholders that would (1) provide students with safe and affordable deposit accounts at Federally-insured banks or credit unions, or other safe, affordable, and appropriate financial services, and (2) evaluate the success of these partnerships in meeting this objective; and

• Creation of financial or other incentives to increase savings by GEAR UP students and families of participating GEAR UP students.

Definitions: These definitions are from the notice of final supplemental priorities and definitions for discretionary grant programs, published in the Federal Register on December 15, 2010 (75 FR 78486) and apply to the competitive preference priorities in this notice.

Graduation rate means a four-year adjusted cohort graduation rate consistent with 34 CFR 200.19(b)(1) and may also include an extended-year adjusted cohort graduation rate consistent with 34 CFR 200.19(b)(1)(v) if the State in which the proposed project is implemented has been approved by the Secretary to use such a rate under Title I of the Elementary and Secondary Education Act of 1965 (ESEA), as amended.

Persistently lowest-achieving schools means, as determined by the State: (i) Any Title I school in improvement, corrective action, or restructuring that (a) is among the lowest-achieving five percent of Title I schools in improvement, corrective action, or restructuring or the lowest-achieving five Title I schools in improvement, corrective action, or restructuring in the State, whichever number of schools is greater; or (b) is a high school that has had a graduation rate as defined in 34 CFR 200.19(b) that is less than 60 percent over a number of years; and (ii) any secondary school that is eligible for, but does not receive, Title I funds that: (a) Is among the lowest-achieving five percent of secondary schools or the lowest-achieving five secondary schools in the State that are eligible for, but do not receive, Title I funds, whichever number of schools is greater; or (b) is a high school that has had a graduation rate as defined in 34 CFR 200.19(b) that is less than 60 percent over a number of years.

To identify the persistently lowest-achieving schools, a State must take into account both: (i) The academic achievement of the “all students” group in a school in terms of proficiency on the State's assessments under section 1111(b)(3) of the ESEA in reading/language arts and mathematics combined; and (ii) the school's lack of progress on those assessments over a number of years in the “all students” group.

Privacy requirements means the requirements of the Family Educational Rights and Privacy Act (FERPA), 20 U.S.C. 1232g, and its implementing regulations in 34 CFR part 99, the Privacy Act, 5 U.S.C. 552a, as well as all applicable Federal, State and local requirements regarding privacy.

Student achievement means—

(a) For tested grades and subjects: (1) A student's score on the State's assessments under the ESEA; and, as appropriate, (2) other measures of student learning, such as those described in paragraph (b) of this definition, provided they are rigorous and comparable across schools. (b) For non-tested grades and subjects: alternative measures of student learning and performance, such as student scores on pre-tests and end-of-course tests; student performance on English language proficiency assessments; and other measures of student achievement that are rigorous and comparable across schools.

Program Authority: 20 U.S.C. 1070a-21—1070a-28.

Applicable Regulations: (a) The Education Department General Administrative Regulations (EDGAR) in 34 CFR parts 74, 75, 77, 79, 80, 81, 82, 84, 85, 86, 97, 98, and 99. (b) The regulations for this program in 34 CFR part 694. (c) The notice of final supplemental priorities and definitions for discretionary grant programs, published in the Federal Register on December 15, 2010 (75 FR 78486). Note: The regulations in 34 CFR part 79 apply to all applicants except Federally recognized Indian Tribes.

Note: The regulations in 34 CFR part 86 apply to institutions of higher education (IHEs) only.

II. Award Information

Type of Award: Discretionary grants.

Estimated Available Funds: $72,552,000. Contingent upon the availability of funds and the quality of applications, we may make additional awards in FY 2012 from the list of unfunded applicants from this competition.

Estimated Range of Awards: $500,000-$5,000,000.

Estimated Average Size of Awards: $4,836,800.

Maximum Award: We will reject any application for a State grant that proposes a budget exceeding $5,000,000 for a single budget period of 12 months. We also will reject any State grant application that proposes an increase in its budget after the first 12-month budget period. The Assistant Secretary for Postsecondary Education may change the maximum amounts through a notice published in the Federal Register.

Estimated Number of Awards: 15.

Note: The Department is not bound by any estimates in this notice.

Project Period: Up to 84 months.

III. Eligibility Information

1. Eligible Applicants: States.

2. a. Cost Sharing or Matching: Section 404C(b)(1) of the HEA requires grantees under this program to provide from State, local, institutional, or private funds, not less than 50 percent of the cost of the program (or $1 of non-Federal funds for every $1 of Federal funds awarded), which may be provided in cash or in-kind. The provision also provides that the match may be accrued over the full duration of the grant award period, except that the grantee must make substantial progress toward meeting the matching requirement in each year of the grant award period.

b. Supplement-Not-Supplant: This program involves supplement-not-supplant funding requirements. Under section 404B(e) of the HEA, grant funds awarded under this program must be used to supplement, and not supplant, other Federal, State, and local funds that would otherwise be expended to carry out activities assisted under this program (20 U.S.C. 1070a-22).

3. Other: Under Section 404E(b)(1) of the HEA for State grants, a State must use not less than 25 percent and not more than 50 percent of the grant funds for activities targeted at the LEA level as described in section 404D (excluding the reservation of funds for postsecondary scholarships provided for in section 404D(a)(4) and with the remainder of grant funds spent on postsecondary scholarships to eligible GEAR UP students as described in section 404E. However, section 404E(b)(2), of the HEA permits the Secretary to allow a State to use more than 50 percent of grant funds received under this program for activities targeted at the LEA level if the State demonstrates in its grant application that it has another means of providing the students with the financial assistance described in section 404E.

IV. Application and Submission Information

1. Address to Request Application Package: You can obtain an application package via the Internet by downloading the package from the program Web site at: http://www.ed.gov/programs/gearup/index.html.

You also can request a copy of the application package from the following: Pariece Wilkins, Gaining Early Awareness and Readiness for Undergraduate Programs, U.S. Department of Education, 1990 K Street, NW., room 7025, Washington, DC 20006-8524. Telephone: (202) 219-7104 or by e-mail: pariece.wilkins@ed.gov.

If you use a telecommunications device for the deaf (TDD), call the Federal Relay Service (FRS), toll free, at 1-800-877-8339.

Individuals with disabilities can obtain a copy of the application package in an accessible format (e.g., braille, large print, audiotape, or computer diskette) by contacting the program contact person listed in this section.

2. Content and Form of Application Submission: Requirements concerning the content of an application, together with the forms you must submit, are in the application package for this program.

Page Limit: The application narrative is where you, the applicant, address the selection criteria that reviewers use to evaluate your application. You must limit the application narrative (Part II) to no more than 45 pages. However, if you choose to address the invitational priority and/or the competitive preference priorities, you must limit your discussion on the invitational priority to only 4 additional pages and discussion on the competitive preference priorities to only 20 additional pages above the 40-page narrative limitation. For purpose of determining compliance with the page limit, each page on which there are words will be counted as one full page. Applicant must use the following standards:

• A “page” is 8.5″ x 11″, on one side only, with 1″ margins at the top, bottom, and both sides.

• Double space (no more than three lines per vertical inch) all text in the application narrative, except titles, headings, footnotes, quotations, references, and captions, as well as all text in charts, tables, figures, and graphs.

• Use a font that is either 12-point or larger or no smaller than 10 pitch (characters per inch).

• Use one of the following fonts: Times New Roman, Courier, Courier New, or Arial. An application submitted in any other font (including Times Roman and Arial Narrow) will not be accepted.

The page limits do not apply to the cover sheet; the budget section, including the budget narrative and summary form; the assurances and certifications; or the one-page abstract.

We will reject your application if you exceed the page limit.

3. Submission Dates and Times:

Applications Available: June 14, 2011.

Deadline for Transmittal of Applications: July 14, 2011.

Applications for grants under this program must be submitted electronically using the Grants.gov Apply site (Grants.gov). For information (including dates and times) about how to submit your application electronically, or in paper format by mail or hand delivery if you qualify for an exception to the electronic submission requirement, please refer to section IV. 7. Other Submission Requirements of this notice.

We do not consider an application that does not comply with the deadline requirements.

Individuals with disabilities who need an accommodation or auxiliary aid in connection with the application process should contact the person listed under FOR FURTHER INFORMATION CONTACT in section VII of this notice. If the Department provides an accommodation or auxiliary aid to an individual with a disability in connection with the application process, the individual's application remains subject to all other requirements and limitations in this notice.

Deadline for Intergovernmental Review: September 12, 2011.

4. Intergovernmental Review: This program is subject to Executive Order 12372 and the regulations in 34 CFR part 79. Information about Intergovernmental Review of Federal Programs under Executive Order 12372 is in the application package for this program.

5. Funding Restrictions: We reference regulations outlining funding restrictions in the Applicable Regulations section of this notice.

6. Data Universal Numbering System Number, Taxpayer Identification Number, and Central Contractor Registry: To do business with the Department of Education, you must—

a. Have a Data Universal Numbering System (DUNS) number and a Taxpayer Identification Number (TIN);

b. Register both your DUNS number and TIN with the Central Contractor Registry (CCR), the Government's primary registrant database;

c. Provide your DUNS number and TIN on your application; and

d. Maintain an active CCR registration with current information while your application is under review by the Department and, if you are awarded a grant, during the project period.

You can obtain a DUNS number from Dun and Bradstreet. A DUNS number can be created within one business day.

If you are a corporate entity, agency, institution, or organization, you can obtain a TIN from the Internal Revenue Service. If you are an individual, you can obtain a TIN from the Internal Revenue Service or the Social Security Administration. If you need a new TIN, please allow 2-5 weeks for your TIN to become active.

The CCR registration process may take five or more business days to complete. If you are currently registered with the CCR, you may not need to make any changes. However, please make certain that the TIN associated with your DUNS number is correct. Also note that you will need to update your CCR registration on an annual basis. This may take three or more business days to complete.

In addition, if you are submitting your application via Grants.gov, you must (1) be designated by your organization as an Authorized Organization Representative (AOR); and (2) register yourself with Grants.gov as an AOR. Details on these steps are outlined in the Grants.gov 3-Step Registration Guide (see http://www.grants.gov/section910/Grants.govRegistrationBrochure.pdf).

7. Other Submission Requirements: Applications for grants under this program must be submitted electronically unless you qualify for an exception to this requirement in accordance with the instructions in this section.

a. Electronic Submission of Applications

Applications for grants under the GEAR UP State Grant competition, CFDA number 84.334S must be submitted electronically using the Governmentwide Grants.gov Apply site at www.Grants.gov. Through this site, you will be able to download a copy of the application package, complete it offline, and then upload and submit your application. You may not e-mail an electronic copy of a grant application to us.

We will reject your application if you submit it in paper format unless, as described elsewhere in this section, you qualify for one of the exceptions to the electronic submission requirement and submit, no later than two weeks before the application deadline date, a written statement to the Department that you qualify for one of these exceptions. Further information regarding calculation of the date that is two weeks before the application deadline date is provided later in this section under Exception to Electronic Submission Requirement.

You may access the electronic grant application for the GEAR UP State Grant competition at www.Grants.gov. You must search for the downloadable application package for this competition by the CFDA number. Do not include the CFDA number's alpha suffix in your search (e.g., search for 84.326, not 84.326A).

Please note the following:

• When you enter the Grants.gov site, you will find information about submitting an application electronically through the site, as well as the hours of operation.

• Applications received by Grants.gov are date and time stamped. Your application must be fully uploaded and submitted and must be date and time stamped by the Grants.gov system no later than 4:30 p.m., Washington, DC time, on the application deadline date. Except as otherwise noted in this section, we will not accept your application if it is received—that is, date and time stamped by the Grants.gov system—after 4:30 p.m., Washington, DC time, on the application deadline date. We do not consider an application that does not comply with the deadline requirements. When we retrieve your application from Grants.gov, we will notify you if we are rejecting your application because it was date and time stamped by the Grants.gov system after 4:30 p.m., Washington, DC time, on the application deadline date.

• The amount of time it can take to upload an application will vary depending on a variety of factors, including the size of the application and the speed of your Internet connection. Therefore, we strongly recommend that you do not wait until the application deadline date to begin the submission process through Grants.gov.

• You should review and follow the Education Submission Procedures for submitting an application through Grants.gov that are included in the application package for this competition to ensure that you submit your application in a timely manner to the Grants.gov system. You can also find the Education Submission Procedures pertaining to Grants.gov under News and Events on the Department's G5 system home page at http://www.G5.gov.

• You will not receive additional point value because you submit your application in electronic format, nor will we penalize you if you qualify for an exception to the electronic submission requirement, as described elsewhere in this section, and submit your application in paper format.

• You must submit all documents electronically, including all information you typically provide on the following forms: the Application for Federal Assistance (SF 424), the Department of Education Supplemental Information for SF 424, Budget Information—Non-Construction Programs (ED 524), and all necessary assurances and certifications.

• You must upload any narrative sections and all other attachments to your application as files in a .PDF (Portable Document) format only. If you upload a file type other than a .PDF or submit a password-protected file, we will not review that material.

• Your electronic application must comply with any page-limit requirements described in this notice.

• After you electronically submit your application, you will receive from Grants.gov an automatic notification of receipt that contains a Grants.gov tracking number. (This notification indicates receipt by Grants.gov only, not receipt by the Department.) The Department then will retrieve your application from Grants.gov and send a second notification to you by e-mail. This second notification indicates that the Department has received your application and has assigned your application a PR/Award number (an ED-specified identifying number unique to your application).

• We may request that you provide us original signatures on forms at a later date.

Application Deadline Date Extension in Case of Technical Issues with the Grants.gov System: If you are experiencing problems submitting your application through Grants.gov, please contact the Grants.gov Support Desk, toll free, at 1-800-518-4726. You must obtain a Grants.gov Support Desk Case Number and must keep a record of it.

If you are prevented from electronically submitting your application on the application deadline date because of technical problems with the Grants.gov system, we will grant you an extension until 4:30 p.m., Washington, DC time, the following business day to enable you to transmit your application electronically or by hand delivery. You also may mail your application by following the mailing instructions described elsewhere in this notice.

If you submit an application after 4:30 p.m., Washington, DC time, on the application deadline date, please contact the person listed under FOR FURTHER INFORMATION CONTACT in section VII of this notice and provide an explanation of the technical problem you experienced with Grants.gov, along with the Grants.gov Support Desk Case Number. We will accept your application if we can confirm that a technical problem occurred with the Grants.gov system and that that problem affected your ability to submit your application by 4:30 p.m., Washington, DC time, on the application deadline date. The Department will contact you after a determination is made on whether your application will be accepted.

Note: The extensions to which we refer in this section apply only to the unavailability of, or technical problems with, the Grants.gov system. We will not grant you an extension if you failed to fully register to submit your application to Grants.gov before the application deadline date and time or if the technical problem you experienced is unrelated to the Grants.gov system.

Exception to Electronic Submission Requirement: You qualify for an exception to the electronic submission requirement, and may submit your application in paper format, if you are unable to submit an application through the Grants.gov system because--

• You do not have access to the Internet; or

• You do not have the capacity to upload large documents to the Grants.gov system; and

• No later than two weeks before the application deadline date (14 calendar days or, if the fourteenth calendar day before the application deadline date falls on a Federal holiday, the next business day following the Federal holiday), you mail or fax a written statement to the Department, explaining which of the two grounds for an exception prevent you from using the Internet to submit your application.

If you mail your written statement to the Department, it must be postmarked no later than two weeks before the application deadline date. If you fax your written statement to the Department, we must receive the faxed statement no later than two weeks before the application deadline date.

Address and mail or fax your statement to: Pariece Wilkins, U.S. Department of Education, 1990 K Street, NW., room 7025, Washington, DC 20006-8524. FAX: (202) 219-7074.

Your paper application must be submitted in accordance with the mail or hand delivery instructions described in this notice.

b. Submission of Paper Applications by Mail

If you qualify for an exception to the electronic submission requirement, you may mail (through the U.S. Postal Service or a commercial carrier) your application to the Department. You must mail the original and two copies of your application, on or before the application deadline date, to the Department at the following address: U.S. Department of Education, Application Control Center, Attention: (CFDA Number 84.334S), LBJ Basement Level 1, 400 Maryland Avenue, SW., Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery

If you qualify for an exception to the electronic submission requirement, you (or a courier service) may deliver your paper application to the Department by hand. You must deliver the original and two copies of your application by hand, on or before the application deadline date, to the Department at the following address: U.S. Department of Education, Application Control Center, Attention: (CFDA Number 84.334S), 550 12th Street, SW., Room 7041, Potomac Center Plaza, Washington, DC 20202-4260.

The Application Control Center accepts hand deliveries daily between 8:00 a.m. and 4:30:00 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this notification within 15 business days from the application deadline date, you should call the U.S. Department of Education Application Control Center at (202) 245-6288.

V. Application Review Information

1. Selection Criteria: The selection criteria for this program are from 34 CFR 75.210 of EDGAR and are listed in the application package.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary also requires various assurances including those applicable to Federal civil rights laws that prohibit discrimination in programs or activities receiving Federal financial assistance from the Department of Education (34 CFR 100.4, 104.5, 106.4, 108.8, and 110.23).

3. Special Conditions: Under 34 CFR 74.14 and 80.12, the Secretary may impose special conditions on a grant if the applicant or grantee is not financially stable; has a history of unsatisfactory performance; has a financial or other management system that does not meet the standards in 34 CFR parts 74 or 80, as applicable; has not fulfilled the conditions of a prior grant; or is otherwise not responsible.

VI. Award Administration Information

1. Award Notices: If your application is successful, we notify your U.S. Representative and U.S. Senators and send you a Grant Award Notification (GAN). We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multi-year award, you must submit an annual performance report that provides the most current performance and financial expenditure information as directed by the Secretary under 34 CFR 75.118. The Secretary may also require more frequent performance reports under 34 CFR 75.720(c). For specific requirements on reporting, please go to http://www.ed.gov/fund/grant/apply/appforms/appforms.html.

4. Performance Measures: The objectives of the GEAR UP Program are—(1) To increase the academic performance and preparation for postsecondary education of participating students; (2) to increase the rate of high school graduation and participation in postsecondary education of participating students; and (3) to increase educational expectations for participating students and student and family knowledge of postsecondary education options, preparation, and financing.

The effectiveness of this program depends on the rate at which program participants complete high school and enroll in and complete a postsecondary education. Under the Government Performance and Results Act of 1993 (GPRA), we developed the following performance measures to track progress toward achieving the program's goals:

1. The percentage of GEAR UP students who pass Pre-algebra by the end of 8th grade.

2. The percentage of GEAR UP students who pass Algebra 1 by the end of 9th grade.

3. The percentage of GEAR UP students who take two years of mathematics beyond Algebra 1 by the 12th grade.

4. The percentage of GEAR UP students who graduate from high school.

Note: For each GEAR UP project, the high school graduation rate is defined in the State's approved accountability plan under Part A of Title I of ESEA.

5. The percentage of GEAR UP students and former GEAR UP students who are enrolled in college.

6. The percentage of GEAR UP students who place into college-level Math and English without need for remediation.

7. The percentage of current GEAR UP students and former GEAR UP students enrolled in college who are on track to graduate college.

8. The percentage of students and parents of GEAR UP students who demonstrate knowledge of available financial aid and the costs and benefits of pursuing postsecondary education.

Note: The Department will ask grantees to track and report on Free Application for Federal Student Aid (FAFSA) completion, and will update the survey currently used by grantees to assess knowledge of financial aid and the costs and benefits of pursuing postsecondary education.

9. The percentage of GEAR UP students who have knowledge of, and demonstrate, necessary academic preparation for college.

Note: This measure will be calculated using factors such as the percentage of GEAR UP students on track for graduation at the end of each grade, the percentage of GEAR UP students who complete the PLAN or PSAT by the end of the 10th grade, the percentage of GEAR UP students who complete the SAT or ACT by the end of 11th grade, and the percentage of GEAR UP students who have an unweighted grade point average (GPA) of at least 3.0 on a 4-point scale by the end of the 11th grade.

10. The percentage of parents of GEAR UP students who actively engage in activities associated with assisting students in their academic preparation for college.

In addition, to assess the efficiency of the program, we track the average cost in Federal funds, of achieving a successful outcome, where success is defined as enrollment in postsecondary education of GEAR UP students immediately after high school graduation. These performance measures constitute GEAR UP's indicators of the success of the program. Grant recipients must collect and report data on steps they have taken toward achieving these goals. Accordingly, we request that applicants include these performance measures in conceptualizing the design, implementation, and evaluation of their proposed projects.

5. Continuation Awards: In making a continuation award, the Secretary may consider, under 34 CFR 75.253, the extent to which a grantee has made “substantial progress toward meeting the objectives in its approved application.” This consideration includes the review of a grantee's progress in meeting the targets and projected outcomes in its approved application, and whether the grantee has expended funds in a manner that is consistent with its approved application and budget. In making a continuation grant, the Secretary also considers whether the grantee is operating in compliance with the assurances in its approved application, including those applicable to Federal civil rights laws that prohibit discrimination in programs or activities receiving Federal financial assistance from the Department (34 CFR 100.4, 104.5, 106.4, 108.8, and 110.23).

VII. Agency Contact

FOR FURTHER INFORMATION CONTACT: Pariece Wilkins, Gaining Early Awareness and Readiness for Undergraduate Programs, U.S. Department of Education, 1990 K Street, NW., Room 7025, Washington, DC 20006-8524. Telephone: (202) 219-7104 or by e-mail: pariece.wilkins@ed.gov.

If you use a TDD, call the FRS, toll free, at 1-800-877-8339.

VIII. Other Information

Accessible Format: Individuals with disabilities can obtain this document and a copy of the application package in an accessible format (e.g., braille, large print, audiotape, or computer diskette) on request to the program contact person listed under FOR FURTHER INFORMATION CONTACT in section VII of this notice.

Electronic Access to This Document: The official version of this document is the document published in the Federal Register. Free Internet access to the official edition of the Federal Register and the Code of Federal Regulations is available via the Federal Digital System at: http://www.gpo.gov/fdsys. At this site you can view this document, as well as all other documents of this Department published in the Federal Register, in text or Adobe Portable Document Format (PDF). To use PDF you must have Adobe Acrobat Reader, which is available free at this site.

You may also access documents of the Department published in the Federal Register by using the article search feature at: http://www.federalregister.gov.

David A. Bergeron,
Acting Assistant Secretary for Postsecondary Education.

[FR Doc. 2011-14737 Filed 6-13-11; 8:45 am]

BILLING CODE 4000-01-P